DEPARTMENT OF THE INTERIOR

Fish and Wildlife Service

Endangered and Threatened Species Permit Application

AGENCY: Fish and Wildlife Service, Interior.

ACTION: Notice of receipt of application.

The following applicant has applied for a permit to conduct certain activities with endangered species. This notice is provided pursuant to section 10(c) of the Endangered Species Act of 1973, as amended (16 U.S.C. 1531, et seq.).

Permit Number TE 026515

Applicant: Glen R. Gill, Central Michigan University, Mt. Pleasant, Michigan.

The applicant requests a permit to take (harass) the Karner Blue Butterfly (Lycaeides melissa samuelis) in southwestern Michigan within the Huron-Manistee National Forest. Activities are for in situ measurements of larvae to determine cohort survival rates to pupation. Results will aid in the enhancement of survival of the species in the wild.

Written data or comments should be submitted to the Regional Director, U.S. Fish and Wildlife Service, Ecological Services Operations, 1 Federal Drive, Fort Snelling, Minnesota 55111-4056, and must be received within 30 days of the date of this publication.

Documents and other information submitted with this application are available for review by any party who submits a written request for a copy of such documents to the following office within 30 days of the date of publication of this notice: U.S. Fish and Wildlife Service, Ecological Services Operations, 1 Federal Drive, Fort Snelling, Minnesota 55111-4056. Telephone: (612/713-5343); FAX: (612/713-5292).

Dated: May 4, 2000.
Charles M. Wooley,
Assistant Regional Director, Ecological Services, Region 3, Fort Snelling, Minnesota.

[FR Doc. 00-11938 Filed 5-11-00; 8:45 am]

BILLING CODE 4310-55-P